DEPARTMENT OF THE TREASURY

Internal Revenue Service

26 CFR Part 1

[REG-132075-14]

RIN 1545-BM49

Extension of Time To File Certain Information Returns; Extension of Comment Period

AGENCY: Internal Revenue Service (IRS), Treasury.

ACTION: Notice of proposed rulemaking; extension of comment period.

SUMMARY: This document extends the comment period for a notice of proposed rulemaking (REG-132075-14) that was published in the Federal Register on Thursday, August 13, 2015. The proposed regulations relate to extensions of time to file information returns on forms in the W-2 series (except Form W-2G).

DATES: Written or electronic comments and requests for a public hearing for the notice of proposed rulemaking published on August 13, 2015 (80 FR 48472), is extended to January 11, 2016.

ADDRESSES: Send submissions to CC:PA:LPD:PR (REG-132075-14), Room 5203, Internal Revenue Service, P.O. Box 7604, Ben Franklin Station, Washington, DC 20044. Submissions may be hand-delivered Monday through Friday between the hours of 8 a.m. and 4 p.m. to CC:PA:LPD:PR (REG-132075-14), Courier's Desk, Internal Revenue Service, 1111 Constitution Avenue NW., Washington, DC, or sent electronically, via the Federal eRulemaking Portal at http://www.regulations.gov (indicate IRS and REG-132075-14).

FOR FURTHER INFORMATION CONTACT: Jonathan R. Black at (202) 317-6845 (not a toll free number).

SUPPLEMENTARY INFORMATION: A notice of proposed rulemaking that appeared in the Federal Register on Thursday, August 13, 2015 (80 FR 48472) announced that written and electronic comments and requests for a public hearing must be received by November 12, 2015. In order to provide the public with a sufficient opportunity to submit comments, the due date to receive electronic comments and requests for a public hearing has been extended to Monday, January 11, 2016.

Martin V. Franks,
Chief, Publications and Regulations Branch, Legal Processing Division, Associate Chief Counsel (Procedure and Administration).

[FR Doc. 2015-28279 Filed 11-5-15; 8:45 am]

BILLING CODE 4830-01-P